FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

ABBA Trans, LLC (NVO & OFF), 750 Arthur Avenue, Elk Grove Village, IL 60007.

Officer: Jane Lee, Member (Qualifying Individual).

Application Type: New NVO & OFF License.

Carlos B. Sanchez Renner, dba New Way Shipping (NVO), Lerida 319 URB. Valencia, Rio Piedras, PR 00923.

Officer: Carlos G. Sanchez Renner, Sole Proprietor (Qualifying Individual).

Application Type: New NVO License.

Discover Freight Forwarder Corporation (NVO & OFF), 290 Ferry Street, A5, Newark, NJ 07105.

Officers: Sandra P. Guevara, President/Treasurer (Qualifying Individual), Felix A. Alegria, Secretary.

Application Type: License Transfer/Add OFF Service.

Globe Express Services, Ltd. dba Dolphin Line dba Globe, Express Services (Overseas Group) (NVO & OFF), 8025 Arrowridge Blvd., Charlotte, NC 28273.

Officers: Jack (John) LaVee, Vice President Operations (Qualifying Individual), Ziad R. Korban, Chairman/CEO.

Application Type: Trade Name Change.

Graylion Logistics, LLC (NVO & OFF), 9485 Regency Square Blvd., Ste. 415, Jacksonville, FL 32225.

Officers: Bernard S. Sain, Stockholder/Director (Qualifying Individual), Glenn R. Patch, Stockholder/Director.

Application Type: License Transfer.

Intral Worldwide LLC (NVO & OFF), 88 Black Falcon Avenue, Suite 202, Boston, MA 02210.

Officer: Scott Barney, Manager (Qualifying Individual).

Application Type: New NVO & OFF License.

Key International Group, Inc. (NVO), 110 Pine Avenue, Suite 1050, Long Beach, CA 90802.

Officers: Michael Boldt, Vice President of Operations (Qualifying Individual), Hernan Venegas, President.

Application Type: QI Change.

LF Freight (USA) LLC (NVO & OFF), 230-59 International Airport Center Blvd., Suite 270, Jamaica, NY 11413.

Officers: Scott R. Ornstein, Vice President (Qualifying Individual), Richard N. Darling, President/Chief Executive.

Application Type: QI Change.

Limitless Transportation Services Inc. (NVO & OFF), 1075 Gills Drive, #310, Orlando, FL 32837.

Officer: Cheryl A. Stockstad, President/Secretary (Qualifying Individual).

Application Type: License Transfer.

Linear Shipping, Inc. (NVO & OFF), 5919 Ridgeway Drive, Grand Prairie, TX 75052.

Officer: Syed S. Rabi-Hassan, President/Secretary/Treasurer (Qualifying Individual).

Application Type: New NVO & OFF License.

Marsh & Associates Signing Services, LLC (NVO), 621 Beverly-Rancocas Road, PMB144, Willingboro, NJ 08046.

Officer: Cheryl Marsh, Chief Executive Member (Qualifying Individual).

Application Type: New NVO License.

Safe Cargo Forwarders, Inc. (OFF), 8555 NW 29th Street, Miami, FL 33122.

Officers: Judith Gil, President/Secretary (Qualifying Individual), Cristina Gil Vargas, Vice President.

Application Type: QI Change.

Dated: February 3, 2012.
Karen V. Gregory,
Secretary.

[FR Doc. 2012-2918 Filed 2-7-12; 8:45 am]

BILLING CODE 6730-01-P